DEPARTMENT OF THE INTERIOR

Fish and Wildlife Service

[FWS-R4-R-2009-N229; 40136-1265-0000-S3]

Carolina Sandhills National Wildlife Refuge, Chesterfield and Marlboro Counties, SC

AGENCY: Fish and Wildlife Service, Interior.

ACTION: Notice of availability: draft comprehensive conservation plan and environmental assessment; request for comments.

SUMMARY: We, the U.S. Fish and Wildlife Service (Service), announce the availability of a draft comprehensive conservation plan and environmental assessment (Draft CCP/EA) for Carolina Sandhills National Wildlife Refuge (NWR) for public review and comment. In this Draft CCP/EA, we describe the alternative we propose to use to manage this refuge for the 15 years following approval of the final CCP.

DATES: To ensure consideration, we must receive your written comments by February 22, 2010.

ADDRESSES: Send comments, questions, and requests for information to: Ms. Allyne Askins, Refuge Manager, Carolina Sandhills NWR, 23734 U.S. Highway 1, McBee, SC 29101, or to the following e-mail address: allyne_askins@fws.gov. The Draft CCP/EA is available on compact disk or in hard copy. The Draft CCP/EA may also be accessed and downloaded from the Service's Internet Site: http://southeast.fws.gov/planning.

FOR FURTHER INFORMATION CONTACT: Ms. Allyne Askins; telephone: 843/335-6023; fax: 843/335-8406.

SUPPLEMENTARY INFORMATION:

Introduction

With this notice, we continue the CCP process for Carolina Sandhills NWR. We started the process through a notice in the Federal Register on August 22, 2007 (72 FR 47062).

Carolina Sandhills NWR is in rural northeast South Carolina. The refuge is comprised of 47,850 acres, including fee ownership of 45,348 acres, and 9 conservation easements totaling 2,502 acres. The majority of the refuge lies in Chesterfield County, with one fee title tract totaling 210 acres in Marlboro County. The refuge is managed to restore the longleaf pine/wiregrass ecosystem for the benefit of the red-cockaded woodpecker (RCW) and other endangered species, provide habitat for migratory and upland game birds, provide opportunities for environmental education and interpretation and wildlife-dependent recreational opportunities, and demonstrate sound land management practices that enhance natural resource conservation. The refuge's primary wildlife-dependent recreational use is hunting, although wildlife observation, hiking, and fishing are also popular.

The refuge contains 30 small man-made impoundments, 1,200 acres of fields and forest openings, and more than 42,000 acres of forested woodland—habitats which contribute to the refuge's diversity of flora and fauna. Management of the refuge's unique blend of pinelands, pocosin bottoms, freshwater ponds and lakes, fields, and wildlife openings provide habitat for nearly 200 species of birds, 42 species of mammals, 41 species of reptiles, 25 species of amphibians, and more than 750 species of plants. The largest population of RCWs within the National Wildlife Refuge System is found on the refuge. Also, rare plants, including several species of carnivorous pitcher plants and the unusual Pine Barrens tree frog are found in the refuge.

Background

The CCP Process

The National Wildlife Refuge System Administration Act of 1966 (16 U.S.C. 668dd-668ee), as amended by the National Wildlife Refuge System Improvement Act of 1997, requires us to develop a CCP for each national wildlife refuge. The purpose for developing a CCP is to provide refuge managers with a 15-year strategy for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

CCP Alternatives, Including Our Proposed Alternative

We developed three alternatives for managing the refuge and chose Alternative C as the proposed alternative. A full description of each alternative is in the Draft CCP/EA. We summarize each alternative below.

Alternative A—Current Management (No Action)

Alternative A would continue existing levels of management activities on the refuge. We would maintain RCW monitoring and recovery. We would maintain and improve habitat required for RCWs by conducting even-aged silviculture and transitioning to uneven-aged management. We would use prescribed fire during the early growing season and mechanical and chemical treatments to confine turkey oaks to understory stratum.

We would monitor eagles, waterfowl, neotropical migratory birds, game species, and other wildlife. We would maintain the wood duck nest box program. We would manage the annual drawdown of ponds to encourage growth of desirable vegetation and restoration of wetland communities. There would be no actions focused specifically on marsh and water birds, raptors, or Pine Barrens tree frogs. We would manage for the restoration of native plants and manage non-native species on an “as needed” basis.

Visitors would be welcomed and oriented with existing visitor center displays, kiosks, and brochure racks. The existing hunting and fishing programs would continue. The hunting program would include deer, quail, rabbit, raccoon, and turkey. Fishing would be permitted in most ponds and some would be occasionally stocked. Wildlife observation and photography would be supported with existing facilities. We would provide quality environmental education and interpretation programs as requested and as time would permit.

We would maintain refuge boundaries, consider acquisition of inholdings from willing sellers, and protect archaeological and historical resources on the refuge. We would work with private landowners near the refuge to promote refuge goals and objectives. We would maintain facilities and equipment and manage operations with existing staff.

Alternative B—Maximize Native Wildlife and Habitat Diversity

Alternative B includes many of the actions under Alternative A, with additional focus on managing native wildlife and habitat diversity, and maintaining the existing visitor services program. We would enhance RCW habitat by accelerating the transition to uneven-aged forest management to improve forest structure and composition, increasing growing season burning, and considering use of fall burning for hazardous fuel reduction and seed bed preparation.

We would enhance management of the floristic communities on the refuge, including seepage bogs, Atlantic white cedar and cane bottoms, and old field species at Oxpen Farm. We would develop and implement habitat management surveys to identify species' responses to treatments in longleaf pine and pocosin habitat sites.

We would enhance management of the impoundments and wetlands, implement moist-soil management, restore natural stream drainage at selected sites, and establish and expand rare and sensitive plant communities. We would conduct a baseline population survey of Pine Barrens tree frogs in seeps, monitor populations of concern to discern population trends and effects of habitat management, coordinate with the South Carolina Department of Natural Resources (SCDNR) to conduct surveys and assess effects of habitat management, and participate in amphibian and reptile conservation initiatives.

We would manage grasslands for birds of conservation concern, conduct baseline population surveys of grassland birds, and survey to assess effects of habitat management. We would restore longleaf pine/wiregrass and native grasslands, establish native warm season grass demonstration areas, and eradicate non-native plants (e.g., fescue, love grass, lespedeza, and bamboo). We would also establish a native seed nursery/orchard for native warm season grasses and native groundcover and engage in native plant botanical research.

Visitor services activities, except for hunting and fishing, would be the same as under Alternative A. We would eliminate fisheries enhancement and reduce hunting days by 30 percent. This reduction would be necessary to implement the proposed biological and habitat initiatives.

We would target land acquisitions to those that would maximize opportunities for management of trust species and connectivity of gaps and corridors to protect important habitats. We would increase easement inspections and develop management plans for each easement to meet wildlife diversity goals. We would increase our efforts to protect archaeological and historical resources on the refuge.

We would increase cooperation with State and Federal agencies to institute a structured monitoring program, determine sources, and investigate means to reduce impacts from any contaminants. We would add additional wells and monitoring stations to key locations throughout the refuge in an effort to determine effects of water withdrawals on refuge resources. We would expand monitoring to include a water quality study.

We would minimize heavy equipment use to prevent soil disturbance and discontinue use of roller choppers. We would increase staffing in wildlife and habitat management programs; however, staffing in visitor services would be the same as under Alternative A.

Alternative C—Proposed Alternative

Alternative C would optimize refuge operations by balancing habitat and wildlife population management with enhanced visitor services. This alternative would include implementation of a majority of actions under Alternative B, while improving visitor experiences and providing educational and recreational opportunities for the surrounding communities.

We would enhance RCW habitat by improving forest structure and composition, by increasing growing season burning, and by using fall burning for hazardous fuel reduction and seed bed preparation. We would use all available tools to control midstory growth.

RCW monitoring would be reduced to a core population in line with management practices of other large RCW populations. The refuge would participate on the Southern Range Translocation Team and would provide juvenile RCWs as donors to populations in Georgia, South Carolina, and North Carolina. As under Alternative B, we would increase partnership activities with SCDNR, Cheraw State Park, and Sand Hills State Forest to manage area RCWs as one recovery unit. We would upgrade our mapping systems to GIS and integrate spatial components of programs and plans into GIS.

We would enhance management of the unique floristic communities on the refuge and develop and implement habitat management surveys to identify response to treatments in longleaf pine and pocosin habitat sites.

We would continue wildlife and habitat management activities as under Alternative A, while establishing and expanding rare and sensitive plant community surveys and management of seepage slopes. As under Alternative B, we would conduct a baseline population survey of Pine Barrens tree frogs. We would monitor populations of concern to discern population trends and effects of habitat management, coordinate with SCDNR to conduct surveys and assess effects of habitat management, and participate in amphibian and reptile conservation initiatives.

We would survey and manage for birds of conservation concern, assessing effects of habitat management. We would restore longleaf pine/wiregrass and native grasslands, establish native warm season grass demonstration areas, and eradicate non-native plants. We would also establish a native seed nursery/orchard for native warm season grasses and native groundcover and engage in native plant botanical research. We would manage dove fields and plant annual cool season crops. We would also work with cooperative farmers to establish native warm season grasses as a seed source or for biofuel production.

Most visitor services activities would be improved. We would enhance interpretation with additional wayside exhibits and an updated, interactive Web site. Hunting and fishing opportunities would be increased. Wildlife observation and photography opportunities would be improved by providing additional trails with better interpretation, an observation tower, and a photo blind. A portable viewing blind would be established in active RCW clusters along the wildlife drive during the nesting season. The environmental education program would be enhanced by developing a comprehensive program to be operated by volunteers and funded by grants. We would enhance appropriate recreational uses (e.g., biking and picnicking) to encourage families to use the refuge and pursue outdoor recreational activities. Communication about key issues would be enhanced by hosting an annual public lands and private landowner demonstration day to showcase restoration and management practices. We would target land acquisitions that would maximize ecosystem management objectives, provide opportunities for public use and environmental education, and identify and evaluate important gaps and corridors to ensure landscape-level conservation and connectivity. We would search for opportunities to enter into cooperative wildlife management agreements with private landowners. We would increase protection of refuge visitors and the protection of archaeological and natural resources on the refuge. We would add visitor services facilities to provide more recreation and education programs and opportunities. We would add equipment to the fleet for producing and harvesting native warm season grass seed. In addition to increasing staff, we would utilize a cadre of career seasonal, temporary, and student employees.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority: This notice is published under the authority of the National Wildlife Refuge System Improvement Act of 1997, Public Law 105-57.

Dated: January 15, 2010.
Jeffrey M. Fleming,
Acting Regional Director.

[FR Doc. 2010-1049 Filed 1-20-10; 8:45 am]

BILLING CODE 4310-55-P